DEPARTMENT OF ENERGY

Federal Energy Regulatory Commission

Combined Notice of Filings #1

Take notice that the Commission received the following electric corporate filings:

Docket Numbers: EC21-122-000.

Applicants: RockGen Energy LLC.

Description: Application for Authorization Under Section 203 of the Federal Power Act of RockGen Energy LLC.

Filed Date: 8/31/21.

Accession Number: 20210831-5254.

Comment Date: 5 p.m. ET 9/21/21.

Docket Numbers: EC21-123-000.

Applicants: Tidal Power Holdings III, LLC, Curtis/Palmer Hydroelectric Company L.P., Innergex HQI USA LLC.

Description: Joint Application for Authorization Under Section 203 of the Federal Power Act of Tidal Power Holdings III, LLC, et al.

Filed Date: 8/31/21.

Accession Number: 20210831-5257.

Comment Date: 5 p.m. ET 9/21/21.

Take notice that the Commission received the following Complaints and Compliance filings in EL Dockets:

Docket Numbers: EL21-98-000.

Applicants: Pacific Gas and Electric Company.

Description: Petition for Declaratory Order of Pacific Gas and Electric Company.

Filed Date: 8/23/21.

Accession Number: 20210823-5242.

Comment Date: 5 p.m. ET 9/22/21.

Take notice that the Commission received the following electric rate filings:

Docket Numbers: ER10-1355-010.

Applicants: Southern California Edison Company.

Description: Notice of Change in Status of Southern California Edison Company.

Filed Date: 8/31/21.

Accession Number: 20210831-5256.

Comment Date: 5 p.m. ET 9/21/21.

Docket Numbers: ER13-1589-005.

Applicants: RockGen Energy, LLC.

Description: Compliance filing: RockGen Energy LLC submits tariff filing per 35: Informational Filing Regarding Upstream Change in Control to be effective N/A.

Filed Date: 9/1/21.

Accession Number: 20210901-5136.

Comment Date: 5 p.m. ET 9/22/21.

Docket Numbers: ER13-198-008.

Applicants: PJM Interconnection, L.L.C.

Description: Compliance filing: PJM submits Compliance Filing re: Order No. 1000.

Filed Date: 9/1/21.

Accession Number: 20210901-5158.

Comment Date: 5 p.m. ET 9/22/21.

Docket Numbers: ER21-2349-001.

Applicants: AR Searcy Project Company, LLC.

Description: Tariff Amendment: AR Searcy Response to be effective 9/1/2021.

Filed Date: 8/31/21.

Accession Number: 20210831-5213.

Comment Date: 5 p.m. ET 9/10/21.

Docket Numbers: ER21-2350-001.

Applicants: MS Sunflower Project Company, LLC.

Description: Tariff Amendment: MS Sunflower Response to be effective 9/1/2021.

Filed Date: 8/31/21.

Accession Number: 20210831-5215.

Comment Date: 5 p.m. ET 9/10/21.

Docket Numbers: ER21-2807-000.

Applicants: Invenergy Wind Development LLC, Invenergy Solar Development LLC.

Description: Request for Prospective Tariff Waiver, et al. of Invenergy Wind Development LLC, et al.

Filed Date: 8/31/21.

Accession Number: 20210831-5198.

Comment Date: 5 p.m. ET 9/21/21.

Docket Numbers: ER21-2810-000.

Applicants: Florida Power & Light Company.

Description: Baseline eTariff Filing: Florida Power & Light Company's Re-Baseline of the RSA Database to be effective 9/1/2021.

Filed Date: 8/31/21.

Accession Number: 20210831-5214.

Comment Date: 5 p.m. ET 9/21/21.

Docket Numbers: ER21-2811-000.

Applicants: Midcontinent Independent System Operator, Inc., Ameren Illinois Company.

Description: § 205(d) Rate Filing: Midcontinent Independent System Operator, Inc. submits tariff filing per 35.13(a)(2)(iii): 2021-09-01_SA 3028 Ameren IL-Prairie Power Project #33 Sarah Bush Hosp to be effective 11/1/2021.

Filed Date: 9/1/21.

Accession Number: 20210901-5043.

Comment Date: 5 p.m. ET 9/22/21.

Docket Numbers: ER21-2812-000.

Applicants: American Electric Power Service Corporation, Ohio Power Company, AEP Ohio Transmission Company, Inc., PJM Interconnection, L.L.C.

Description: § 205(d) Rate Filing: American Electric Power Service Corporation submits tariff filing per 35.13(a)(2)(iii): AEP submits one FA re: ILDSA SA No. 1427 to be effective 11/1/2021.

Filed Date: 9/1/21.

Accession Number: 20210901-5076.

Comment Date: 5 p.m. ET 9/22/21.

Docket Numbers: ER21-2813-000.

Applicants: American Electric Power Service Corporation, Indiana Michigan Power Company, AEP Indiana Michigan Transmission Company, Inc., PJM Interconnection, L.L.C.

Description: § 205(d) Rate Filing: American Electric Power Service Corporation submits tariff filing per 35.13(a)(2)(iii): AEP submits one FA re: ILDSA SA No. 5120 to be effective 11/1/2021.

Filed Date: 9/1/21.

Accession Number: 20210901-5078.

Comment Date: 5 p.m. ET 9/22/21.

Docket Numbers: ER21-2814-000.

Applicants: PJM Interconnection, L.L.C.

Description: § 205(d) Rate Filing: Amendment to ISA and ICSA, Nos. 5866 and 5867; Queue No. AD1-082 to be effective 12/7/2020.

Filed Date: 9/1/21.

Accession Number: 20210901-5133.

Comment Date: 5 p.m. ET 9/22/21.

Docket Numbers: ER21-2815-000.

Applicants: ISO New England Inc.

Description: § 205(d) Rate Filing: ISO-NE; Ministerial Filing to Conform Exhibit IA, Financial Asssurance Policy to be effective 9/10/2020.

Filed Date: 9/1/21.

Accession Number: 20210901-5142.

Comment Date: 5 p.m. ET 9/22/21.

Docket Numbers: ER21-2816-000.

Applicants: Gratiot County Wind LLC.

Description: Initial rate filing: Filing of Reactive Power Rate Schedule to be effective 11/1/2021.

Filed Date: 9/1/21.

Accession Number: 20210901-5151.

Comment Date: 5 p.m. ET 9/22/21.

Docket Numbers: ER21-2817-000.

Applicants: Consolidated Edison Company of New York, Inc.

Description: § 205(d) Rate Filing: Amendment PASNY Tariff 9-1-2021 CDG-Remote Crediting to be effective 9/1/2021.

Filed Date: 9/1/21.

Accession Number: 20210901-5156.

Comment Date: 5 p.m. ET 9/22/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 1, 2021.
Debbie-Anne A. Reese,
Deputy Secretary.

[FR Doc. 2021-19373 Filed 9-3-21; 8:45 am]

BILLING CODE 6717-01-P